DEPARTMENT OF THE INTERIOR

Fish and Wildlife Service

[FWS-R9-IA-2009-N0103; 96300-1671-0000 FY09 R4]

Conference of the Parties to the Convention on International Trade in Endangered Species of Wild Fauna and Flora (CITES); Fifteenth Regular Meeting: Proposed Resolutions, Decisions, and Agenda Items Being Considered; Taxa Being Considered for Amendments to the CITES Appendices; Observer Information

AGENCY: Fish and Wildlife Service, Interior.

ACTION: Notice.

SUMMARY: The United States, as a Party to the Convention on International Trade in Endangered Species of Wild Fauna and Flora (CITES), may submit proposed resolutions, decisions, and agenda items for consideration at meetings of the Conference of the Parties to CITES. The United States may also propose amendments to the CITES Appendices for consideration at meetings of the Conference of the Parties. The fifteenth regular meeting of the Conference of the Parties to CITES (CoP15) is tentatively scheduled to be held in Doha, Qatar, March 13-25, 2010.

With this notice, we describe proposed resolutions, decisions, and agenda items that the United States is considering submitting for consideration at CoP15; describe proposed amendments to the CITES Appendices (species proposals) that the United States is considering submitting for consideration at CoP15; invite your comments and information on these proposals; and provide information on how nongovernmental organizations based in the United States can attend CoP15 as observers.

DATES: We will consider written information and comments you submit concerning potential species proposals, and proposed resolutions, decisions, and agenda items that the United States is considering submitting for consideration at CoP15, and other items relating to CoP15, if we receive them by September 11, 2009.

ADDRESSES: Comments pertaining to proposed resolutions, decisions, and agenda items should be sent to the Division of Management Authority, U.S. Fish and Wildlife Service, 4401 North Fairfax Drive, Room 212, Arlington, VA 22203, or via e-mail at: CoP15@fws.gov, or via fax at: 703-358-2298. Comments pertaining to species proposals should be sent to the Division of Scientific Authority, U.S. Fish and Wildlife Service, 4401 North Fairfax Drive, Room 110, Arlington, VA 22203, or via e-mail at: scientificauthority@fws.gov, or via fax at: 703-358-2276.

FOR FURTHER INFORMATION CONTACT: For information pertaining to resolutions, decisions, and agenda items contact: Robert R. Gabel, Chief, Division of Management Authority, phone 703-358-2095, fax 703-358-2298, e-mail: CoP15@fws.gov. For information pertaining to species proposals contact: Rosemarie Gnam, Chief, Division of Scientific Authority, phone 703-358-1708, fax 703-358-2276, e-mail: scientificauthority@fws.gov.

SUPPLEMENTARY INFORMATION:

Background

The Convention on International Trade in Endangered Species of Wild Fauna and Flora, hereinafter referred to as CITES or the Convention, is an international treaty designed to control and regulate international trade in certain animal and plant species that are now or potentially may be threatened with extinction. These species are listed in Appendices to CITES, which are available on the CITES Secretariat's website at http://www.cites.org/eng/app/index.shtml. Currently, 175 countries, including the United States, are Parties to CITES. The Convention calls for biennial meetings of the Conference of the Parties, which reviews its implementation, makes provisions enabling the CITES Secretariat in Switzerland to carry out its functions, considers amendments to the lists of species in Appendices I and II, considers reports presented by the Secretariat, and makes recommendations for the improved effectiveness of CITES. Any country that is a Party to CITES may propose for these meetings amendments to Appendices I and II, and resolutions, decisions, and agenda items for consideration by all the Parties.

This is our second in a series of Federal Register notices that, together with an announced public meeting, provide you with an opportunity to participate in the development of the U.S. negotiating positions for the fifteenth regular meeting of the Conference of the Parties to CITES (CoP15). We published our first CoP15-related Federal Register notice on September 29, 2008 (73 FR 56605), in which we requested information and recommendations on species proposals and proposed resolutions, decisions, and agenda items for the United States to consider submitting for consideration at CoP15. You may obtain information on that Federal Register notice from the following sources: for information on proposed resolutions, decisions, and agenda items, contact the Division of Management Authority at the address provided in “ADDRESSES” above; and for information on species proposals, contact the Division of Scientific Authority at the address provided in “ADDRESSES” above. Our regulations governing this public process are found in 50 CFR 23.87.

CoP15 is tentatively scheduled to be held in Doha, Qatar, March 13-25, 2010.

I. Recommendations for Resolutions, Decisions, and Agenda Items for the United States To Consider Submitting for CoP15

In our Federal Register notice published on September 29, 2008 (73 FR 56605), we requested information and recommendations on potential resolutions, decisions, and agenda items for the United States to submit for consideration at CoP15. We received recommendations for resolutions, decisions, and agenda items from the following organizations: the Species Survival Network (SSN); TRAFFIC; the Whale and Dolphin Conservation Society (WDCS); and the World Wide Fund for Nature (WWF). We also received a comment from one individual.

We considered all of the recommendations of the above individual and organizations, as well as the factors described in the U.S. approach for CoP15 discussed in our September 29, 2008, Federal Register notice, when compiling a list of resolutions, decisions, and agenda items that the United States is likely to submit for consideration by the Parties at CoP15; and lists of resolutions, decisions, and agenda items for consideration at CoP15 that the United States either is currently undecided about submitting, is not considering submitting at this time, or plans to address in other ways. The United States may consider submitting documents for some of the issues for which it is currently undecided or not considering submitting at this time, depending on the outcome of discussions of these issues in the CITES Animals, Plants, and Standing Committees, or additional consultations with range country governments and subject matter experts.

Please note that, in sections A, B, and C below, we have listed those resolutions, decisions, and agenda items that the United States is likely to submit, currently undecided about submitting, or currently planning not to submit. We have posted an extended version of this notice on our website at http://www.fws.gov/international/newspubs/fedregnot.html, with text describing in more detail each of these issues and explaining the rationale for the tentative U.S. position on each issue. Copies of the extended version of the notice are also available from the Division of Management Authority at the above address.

We welcome your comments and information regarding the resolutions, decisions, and agenda items that the United States is likely to submit, currently undecided about submitting, or currently planning not to submit.

A. What resolutions, decisions, and agenda items is the United States likely to submit for consideration at CoP15?

1. A document that continues to support a strong stance on tiger conservation and efforts to address illegal trade in tiger and other Asian big cat parts and derivatives in both range and consumer countries.

2. A discussion document addressing inconsistent implementation of Appendix-III timber listings annotated to include only the national populations of the listing countries, and possibly including a proposal to amend Resolution Conf. 9.25 (Rev. CoP14), by deleting Recommendation a) iv), regarding the inclusion of geographically separate populations of timber species in Appendix III, and adding language to direct the CITES Secretariat to consult with countries who request such listings to ensure that the listings will achieve the level of control and cooperation with other range countries intended.

3. A discussion document addressing difficulties encountered associated with the reporting of scientific names for CITES-listed coral specimens, including proposed changes to Resolution Conf. 12.3 (Rev. CoP14) to indicate that taxonomic names of corals on CITES permits and certificates should comply with the list in CITES Notification to the Parties No. 2003/020, and a draft decision directing the Animals Committee to update the list in Notification No. 2003/020.

B. On what resolutions, decisions, and agenda items is the United States still undecided, pending additional information and consultations?

1. A discussion document on how CITES might incorporate impacts of climate change in future deliberations, or how Parties could incorporate climate change resilience into their non-detriment findings.

2. A discussion document on the conservation issues associated with and management of the snake trade in Asia.

3. A discussion document raising possible problems with the current guidelines to register and monitor operations that breed Appendix-I animal species for commercial purposes provided in Resolution Conf. 12.10 (Rev. CoP14), and possibly including a proposal to amend this resolution.

C. What resolutions, decisions, and agenda items is the United States not likely to submit for consideration at CoP15, unless we receive significant additional information?

1. A resolution that details the need to accurately and adequately describe on CITES permits and in CITES annual reports both the types of specimens in trade and the quantities of specimens in trade.

2. A document expressing disappointment in the lack of progress that has been made to date in the development and implementation of regional management plans for the African grey parrot (Psittacus erithacus).

3. A document related to the establishment of “zero export quotas” for those species subject to a Standing Committee recommendation to suspend trade.

4. A document emphasizing the importance of sound science in the making of CITES non-detriment findings for the import of specimens included in Appendix I, and export of specimens of species included in Appendices I and II.

II. Recommendations for Species Proposals for the United States To Consider Submitting for CoP15

In our Federal Register notice of September 29, 2008 (73 FR 56605), we requested information and recommendations on potential species proposals for the United States to consider submitting for consideration at CoP15. We received recommendations from the following organizations for possible proposals involving 46 taxa (5 families, 7 genera, and 34 individual species) and 5 general animal groups (furbearers, ungulates, freshwater turtles, sharks, and other fish): the Animal Welfare Institute; Defenders of Wildlife; the Humane Society of the United States (HSUS); Humane Society International (HSI); the International Union for Conservation of Nature Species Survival Commission (IUCN/SSC) Tortoise and Freshwater Turtle Specialist Group; the Mid-Atlantic Turtle and Tortoise Society; the Ocean Conservancy; the Pew Institute for Ocean Conservation Science; Sea Web; SSN; TRAFFIC; WDCS; and WWF. We have undertaken initial assessments of the available trade and biological information on all of these taxa. Based on these assessments, we made provisional determinations of whether to proceed with the development of proposals to list or delist species, or transfer them from one Appendix to another. We made these determinations by considering the quality of biological and trade information available on the species; the presence, absence, and effectiveness of other mechanisms that may preclude the need for a CITES listing (e.g., range country actions or other international agreements); and availability of resources. Furthermore, our assignment of a taxon to one of these categories, which reflects the likelihood of our submitting a proposal, included consideration of the following factors, which reflect the U.S. approach for CoP15 discussed in our September 29, 2008, Federal Register notice:

(1) Is it a native U.S. species that is or may be significantly affected by trade, or if it is a currently listed U.S. species, does the listing accurately reflect the biological and trade status of the species?

(2) Is it a native U.S. species that is not at this time significantly impacted by trade within the United States, but is being significantly impacted elsewhere in its range?

(3) Is it a foreign species, not native to the United States, but which is or may be significantly affected by trade, and the United States is a significant component of the trade (i.e., as an importing country)?

(4) Is it a species for which the United States is neither a range country nor a country significantly involved in trade, but for which trade is a serious threat to the continued existence of the species, other mechanisms are lacking or ineffective for bringing trade under control, and action is urgently needed?

In sections A, B, and C below, we have listed the current status of each species proposal recommended by the public, as well as species proposals we have been developing on our own. Please note that we have only provided here a list of taxa and the proposed action. We have posted an extended version of this notice on our website at http://www.fws.gov/international/newspubs/fedregnot.html, with text describing in more detail each proposed action and explaining the rationale for the tentative U.S. position on each possible proposal. Copies of the extended version of the notice are also available from the Division of Management Authority at the above address.

We welcome your comments, especially if you are able to provide any additional biological or trade information on these species. For each species, more detailed information is on file in the Division of Scientific Authority.

A. What species proposals is the United States likely to submit for consideration at CoP15?

The United States is likely to develop and submit proposals for the following taxa. For some of the species below, particularly those not native to the United States, additional consultations with range countries and subject matter experts are proceeding, and final decisions are pending, based on the outcomes of those consultations and any additional information received.

Plants

1. Flasked seedlings - Amendment of the annotation for Appendix-I orchid species to make it consistent with the language in Resolution Conf. 11.11 (Rev. CoP14) pertaining to flasked seedlings

Corals

2. Red and pink coral (Corallium spp. and Paracorallium spp.) - Inclusion in Appendix II

Mammals

3. Bobcat (Lynx rufus) - Removal from Appendix II

B. On what species proposals is the United States still undecided, pending additional information and consultations?

The United States is still undecided on whether to submit proposals for CoP15 for the following taxa. In some cases, we have not completed our consultations with relevant range countries. In other cases, we expect meetings to occur in the immediate future at which participants will generate important recommendations, trade analyses, or biological information on the taxon in question.

Plants

1. Cedars (Cedrela spp.) - Inclusion in Appendix II

2. Cliff spurge (Euphorbia misera) - Removal from Appendix II

Mollusks

3. Nautilids (Allonautilus spp. and Nautilus spp.) - Inclusion in Appendix II

Fish

4. Tope shark (Galeorhinus galeus) - Inclusion in Appendix II

5. Shortfin mako shark (Isurus oxyrhinchus) - Inclusion in Appendix II

6. Longfin mako shark (Isurus paucus) - Inclusion in Appendix II

7. Porbeagle shark (Lamna nasus) - Inclusion in Appendix II

8. Freshwater sawfish (Pristis microdon) - Transfer from Appendix II to Appendix I

9. Hammerhead sharks (Sphyrna spp.) - Inclusion in Appendix II

10. Spiny dogfish (Squalus acanthias) - Inclusion in Appendix II

11. Requiem sharks (Carcharinidae) - Inclusion in Appendix II

12. Devil and manta rays (Mobulidae) - Inclusion in Appendix II

13. Freshwater stingrays (Potamotrygonidae) - Inclusion in Appendix II

14. American eel (Anguilla rostrata) - Inclusion in Appendix II

15. Northern bluefin tuna (Thunnus thynnus) - Inclusion in Appendix I

Reptiles

16. Common snapping turtle (Chelydra serpentina) - Inclusion in Appendix III (Note: The IUCN/SSC Tortoise and Freshwater Turtle Specialist Group recommended that the United States propose inclusion of the common snapping turtle in Appendix III at CoP15, although inclusion of a species in Appendix III is a unilateral decision and does not require a proposal to be brought forward to the CoP)

17. Spotted turtle (Clemmys guttata) - Inclusion in Appendix II

18. Diamondback terrapin (Malaclemys terrapin) - Inclusion in Appendix II

19. Florida soft-shell turtle (Apalone ferox) - Inclusion in Appendix II

20. Smooth soft-shell turtle (Apalone mutica) - Inclusion in Appendix II

21. Spiny soft-shell turtle (Apalone spinifera) - Inclusion in Appendix II

22. Giant leaf-tailed gecko (Uroplatus giganteus) - Transfer from Appendix II to Appendix I

Mammals

23. Polar bear (Ursus maritimus) - Transfer from Appendix II to Appendix I

24. Walrus (Odobenus rosmarus) - Inclusion in Appendix II

25. Narwhal (Monodon monoceros) - Transfer from Appendix II to Appendix I

C. What species proposals is the United States not likely to submit for consideration at CoP15, unless we receive significant additional information?

The United States does not intend to submit proposals for the following taxa unless we receive significant additional information indicating that a proposal is warranted. Information currently available for each of the taxa listed below does not support a defensible listing proposal. In addition to the taxa listed below, please note that the Animal Welfare Institute provided us with a tentative list of taxonomic groups of animal species for which it was recommending that the United States consider amendments to the Appendices. These groups of species included “native and non-native species including freshwater turtles, sharks, furbearers, fish, and ungulates.” We do not have the resources to evaluate such a broad request in the timeframes necessary for decision making for CoP15. Therefore, the United States does not intend to submit any proposals to the CoP as a result of this recommendation.

Fish

1. Gulper sharks (Centrophoridae) - Inclusion in Appendix II

2. Guitarfishes and shovelnose rays (Rhinobatidae) - Inclusion in Appendix II

3. Beluga sturgeon (Huso huso) - Transfer from Appendix II to Appendix I

Amphibians

4. Blue-sided frog (Agalychnis annae) - Inclusion in Appendix II

5. Morelet's tree frog (Agalychnis moreletii) - Inclusion in Appendix II

6. Rancho Grande harlequin frog (Atelopus cruciger) - Inclusion in Appendix II

7. Helmeted water toad (Caudiverbera caudiverbera) - Inclusion in Appendix II

8. Santa Fe frog (Leptodactylus laticeps) - Inclusion in Appendix II

9. Giant Asian river frog (Limnonectes blythii) - Inclusion in Appendix II

10. Fanged river frog (Limnonectes macrodon) - Inclusion in Appendix II

11. Giant Philippine frog (Limnonectes magnus) - Inclusion in Appendix II

12. Albanian water frog (Rana shqiperica) - Inclusion in Appendix II

13. Rain frog (Scaphiophryne boribory) - Inclusion in Appendix II

14. Alto Verapaz salamander (Bolitoglossa dofleini) - Inclusion in Appendix II

15. Kaiser's spotted newt (Neurergus kaiseri) - Inclusion in Appendix I or II

16. Kurdistan newt (Neurergus microspilotus) - Inclusion in Appendix II

Reptiles

17. Alligator snapping turtle (Macrochelys temminckii) - Inclusion in Appendix II

18. Map turtles (Graptemys spp.) - Inclusion in Appendix II

In addition to the taxa listed above, Defenders of Wildlife and SSN suggested that more research be done on Limnonectes spp. frogs and the Laos wart newt (Paramesotriton laoensis). We need additional biological and trade information for both taxa to determine whether they meet the listing criteria in CITES Resolution Conf. 9.24 (Rev. CoP14).

Request for Information and Comments

We invite any information and comments concerning any of the possible CoP15 species proposals and proposed resolutions, decisions, and agenda items discussed above. You must submit your information and comments to us no later than the date specified in “DATES” above, to ensure that we consider them. Comments and materials received will be available for public inspection, by appointment, from 8 a.m. to 4 p.m., Monday through Friday, at either the Division of Management Authority or the Division of Scientific Authority. Our practice is to make comments, including names and home addresses of respondents, available for public review during regular business hours. Individual respondents may request that we withhold their home addresses from the administrative record, which we will honor to the extent allowable by law. There also may be circumstances in which we would withhold from the administrative record a respondent's identity, as allowable by law. If you wish to withhold your name and/or address, you must state this prominently at the beginning of your comment. We will make all comments and materials submitted by organizations or businesses, and by individuals identifying themselves as representatives or officials of organizations or businesses, available for public inspection in their entirety.

Observers

Article XI, paragraph 7 of CITES states the following:

“Any body or agency technically qualified in protection, conservation or management of wild fauna and flora, in the following categories, which has informed the Secretariat of its desire to be represented at meetings of the Conference by observers, shall be admitted unless at least one-third of the Parties present object:

(a) international agencies or bodies, either governmental or non-governmental, and national governmental agencies and bodies; and

(b) national non-governmental agencies or bodies which have been approved for this purpose by the State in which they are located.

Once admitted, these observers shall have the right to participate but not to vote.”

Persons wishing to be observers representing international nongovernmental organizations (which must have offices in more than one country) at CoP15 may request approval directly from the CITES Secretariat. Persons wishing to be observers representing U.S. national nongovernmental organizations at CoP15 must receive prior approval from our Division of Management Authority. Once we grant our approval, a U.S. national nongovernmental organization is eligible to register with the Secretariat and must do so at least 6 weeks prior to the opening of CoP15 to participate in CoP15 as an observer. Individuals who are not affiliated with an organization may not register as observers. An international nongovernmental organization with at least one office in the United States may register as a U.S. nongovernmental organization if it prefers.

A request submitted to us for approval as an observer should include evidence of technical qualifications in protection, conservation, or management of wild fauna and/or flora, on the part of both the organization and the individual representative(s). The request should also include copies of the organization's charter and/or bylaws, and a list of representatives it intends to send to CoP15. Organizations seeking approval for the first time should detail their experience in the protection, conservation, or management of wild fauna and/or flora, as well as their purposes for wishing to participate in CoP15 as an observer. An organization that we have previously approved as an observer at a meeting of the Conference of the Parties within the past 5 years must submit a request, but does not need to provide as much detailed information concerning its qualifications as an organization seeking approval for the first time. These requests should be sent to the Division of Management Authority (see “ADDRESSES,” above).

Once we approve an organization as an observer, we will send the organization instructions for registration with the CITES Secretariat in Switzerland, including a meeting registration form and travel and hotel information. A list of organizations approved for observer status at CoP15 will be available upon request from the Division of Management Authority just prior to the start of CoP15.

Future Actions

We expect the CITES Secretariat to provide us with a provisional agenda for CoP15 within the next several months. Once we receive the provisional agenda, we will publish it in a Federal Register notice and provide the Secretariat's website URL. We will also provide the provisional agenda on our website at http://www.fws.gov/international.

The United States will submit any species proposals, and proposed resolutions, decisions, and agenda items for consideration at CoP15 to the CITES Secretariat 150 days prior to the start of the meeting (i.e., tentatively by mid-October , 2009). We will consider all available information and comments, including those received in writing during the comment period, as we decide which species proposals, and proposed resolutions, decisions, and agenda items warrant submission by the United States for consideration by the Parties. Approximately 4 months prior to CoP15, we will post on our website an announcement of the species proposals, and proposed resolutions, decisions, and agenda items submitted by the United States to the CITES Secretariat for consideration at CoP15.

Through an additional notice and website posting in advance of CoP15, we will inform you about preliminary negotiating positions on resolutions, decisions, and amendments to the Appendices proposed by other Parties for consideration at CoP15. We will also publish an announcement of a public meeting tentatively to be held approximately 2 months prior to CoP15, to receive public input on our positions regarding items submitted by other Parties.

Author

The primary authors of this notice are Mark Albert, Division of Management Authority; and Pamela Hall, Division of Scientific Authority; under the authority of the U.S. Endangered Species Act of 1973, as amended (16 U.S.C. 1531 et seq.).

Dated: June 29, 2009
Marvin Moriarty
Acting Deputy Director

[FR Doc. E9-16410 Filed 7-10- 09; 8:45 am]

BILLING CODE 4310-55-S